DEPARTMENT OF DEFENSE

Office of the Secretary

Postponement of the Defense Finance and Accounting Service Board of Advisors

AGENCY: Department of Defense, Office of the Secretary of Defense (Comptroller).

ACTION: Notice of postponement of June 27, 2001 meeting.

SUMMARY: On Monday, June 18, 2001 (66 FR 32795), the Department of Defense published a notice of meeting of the Defense Finance and Accounting Service (DFAS) Board of Advisors scheduled for Wednesday, June 27, 2001. The meeting has been postponed and will be rescheduled and announced at a later date.

Dated: June 25, 2001.
L.M. Bynum,
Alternate OSD Federal Register Liaison Officer, Department of Defense.

[FR Doc. 01-16538 Filed 6-29-01; 8:45 am]

BILLING CODE 5001-08-M